DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G of the Health Insurance Portability and Accountability Act (HIPPA) of 1996, as amended. This listing contains the name of each individual losing United States citizenship (within the meaning of section 877(a) or 877A) with respect to whom the Secretary received information during the quarter ending June 30, 2018. For purposes of this listing, long-term residents, as defined in section 877(e)(2), are treated as if they were citizens of the United States who lost citizenship.

Last name | First name | Middle name/initials
ABBASI | SAADIA |
ABERLE | STEPHEN | DANIEL
ABOU-RICHEH | JANA | RIF
ABRAMS | TARA | BETH
ACEVEDO | PATRICIA | A.
ACKERMANN | FELIX |
ADAM | MICHAEL | BRUCE
AFSHAR | ABDOL | KARIM
AGOPIAN | CHRISTINE | MARY
AHARON | SHIRA |
AHMAD | FIRAS | MICHAEL
AINIKKAL | DAWN | MARIE
AITCHISON | SANDRA | ELIZABETH
Akama | Kazuko |
Akama | Kotaro |
AKAMA | SANAKO |
AL ABDALI | LAMEES | ABDULRAHMAN
AL-ATTAR | MOHAMMAD | KHALED
AL-HEMEL | SALEH | MOHAMMED
AL-HENDI | FATEMA | ABDULLA
AL-IBRAHIM | NASER | ABDULHAMID
ALIOTH | LUCIE | AUDREY
ALISSANDRAKIS | ARIS | CONSTANTINE
ALLAN | SARAH | MICHELLE GRAY
ALLEN | BRADLEY | J.
ALLEN | JOYCE | E.
ALLEN | SUSANNA | CLAIRE
AL-MUZAYEN | FAISAL | HAMAD
AL-RASHID | ABDULAZIZ |
ALSAADI | SULTAN | ABDULRAHMAN
AL-SALEH | BADRYA | ADNAN ABDULLAH
ALSAYEGH | FARAH | ALI
ALSHAHIN | JUMANA | RIYAD
ALTURKI | RASHA | KHALID
ALWANI | GIRISH | PITAMBER
AMOS | ELIZABETH | JANE
AMRIATI | JENNY | E.
AMRIATI | KAREN | E.
AMRIATI | KATRINE |
AMUNDSEN | ETHEL | JOYCE
AN | TAE | PONG
ANDRASKO | PETER | ANDREW
ANDREWS | AMY | BETH
ANKETELL | KRISTEEN | ZUYANG
ANLIKER-RITTMANN | MICHELE | FRANCOISE
Annabell | Tracy | Lynne
ANSON | SHELAGH | ELISABETH
ANTHONY | CYNTHIA | GAY
ARAYA | MIDORI | RUTH
ARITOMO | KELICHI |
ARMSTRONG | DANETTE | MARIE
ATHAIDE | GREG | RYAN JUDE
ATHAIDE | GREG | RYAN JUDE
AUCHARD | JUDITH | CLARE
AUGE | BRYAN | JOSEPH
AUN | RONELA |
AUSTIN | ANTON | GEORGE
BACKMAN-BEHARRY | ALICIA | MARGARET
BAGLEY | TIMOTHY | LYNN
BAIK | JI-WON |
BAINES | JESSE | JOHNSON
BAKKER | MADELINE |
BALLMER | TOBIAS | KURT
BAMBRIDGE | WENDY | MAXINE
BAQUET | LEMOYNE | DWIGHT
BARAKAT | RAMZI | TAYSEER
BARLOW | TIMOTHY | JON
BARLOW | TIMOTHY | JON
BARNABE | KAREN | ANN
BARRETEAU | MICHEL | ARMAND
BARRETT | RICHARD | JAY
BAUDAT | ALICE | SUE
BAUDAT | PAUL-EDOUARD |
BAWDEN | MARY |
BAZAROVA | CAROLINA | ALEXANDER
BEAUDET | JULIE |
BECK | MARY | ELLEN
BECK | ROBERT | DAVID
BEK | BETSY | EMMA
BEKHAZI | LARA | SALWA
BENINGER | JOSEPH | WILHELM
BENNETT | BRIDGET | ELAINE
BENNISON | ARNOLD |
BENNISON | ISABEL |
BERGER | CONNIE |
BERGLAND | YVONNE | P.
BERGMAN | BONITA | MAY
BERTRAND-DALECHAMPS | PAULINE | ISABELLE MARIE
BEZY | NICHOLAS | BRIAN
BHASIN | PADMA |
BHATT | KRUPA | ANKUR
BICK | WILL | JAMES
BIGGS | MARY | ELLEN
BISHOP | DAVID |
BISHOP | GILLIAN |
BLAGDON | CHANTAL | MARIE
BLANC | JEREMIE | PAUL ANDRE
BLAND | JESSICA | SUSAN
BLAUENSTEIN | ANDRIN | PATRICK
BLISS | KEVIN | ANDREW
BOETTGER | JOEL | DONALD
BOFFA | DEBORAH | CAROLYN
BOGGIANO | STEVEN | EDWARD
BOLLIGER | CORRINE | ANN
BONNETEAU | CATHERINE | DELMA LOUISE
BORGLIN | KARIN | ELISABETH
BORNOT | MARIE | C. T.
BOTHELLO | CATHERINE | EILEEN
BOTTOMLY | RICHARD | VOLNEY
BOWMAN | CLARA | JEAN
BOYCE | MARY | ELIZABETH SCHOESER
BOYD | WILLIAM | ROBERT
BRADY | KYLE | ROBERT
BRADY | TIMOTHY | PATRICK
BRAND | RICHARD | JOSEPH
BRAY | SARAH | LOWSON
BRENNINKMEYER | EDWARD | THOMAS
BRENTA | PATRICI | RITA
BRIDGEMAN | ORLANDO | HARRY MARCUS
BRINKHURST | RALPH | OWEN
BROADBENT | KAY | MELISSA
BROCKLESBY | FLORENCE | A. F.
BROKENSHIRE | RICHARD | HILTS
BROOKS | DAVID | STEPHEN
BROOKS | VICTORIA | LOUISE
BROWN | CHARLES | GORDON
BROWN | COREEN | ANNA
BROWN | DEBORAH | GAILE
BROWN | PENELOPE | DIANE
BUCHI | CLAUDIA |
BURN | ANDREA | GRACE
BURNELL | ETHELDA | ELIZABETH
BUSHARA | YOUSIF | SAMI
BUTLER | JOY | FRANCES
BUTTERWORTH | JENNIFER | ANN
BYKHOVSKI | ANASTASIA |
C BURGIN | LINDA | ELLA
CAIRO | GAIA |
CALDER | RHONDA | T.
CALLAGHAN | JAMES | JOSEPH
Cameron | Nancy | Jean
CAMPBELL | CRAIG | LEBARON
CANELL | BRIAN | ANDREW
CARAMANNA | ALEXANDRA | ISIDORA
CARDONE | GIOVANNI |
CARLSON | ELIZABETH |
CARNOT | JULIEN | PIERRE
CARRADINE | WILLIAM | C.
CARTER | GAIL | DOROTHY
CARVER | NEIL | ADRIAN
CASAGRANDE | PHILIPPE |
CASHIN | ANNE | DENISE
CATES | JOHN | PATRICK
CHAN | CLAUDIA |
CHAN | KATHERINE | KA YUN
CHANDRA | CHRISTOPHER | MELVIN
CHANG | HEE | JIN SARAH
CHANG | MELODY |
CHANG | TRACY |
CHAPLIN | GILLIAN | RAU
CHARROT | CATHERINE | CHARLOTTE
CHASSELL CASTON | KELTY | PETER
CHELICO | MICHAEL | A.
CHEN | CONNIE |
CHEN | MICHAEL | BRANDON
CHEN | SONIA | YEASHOU
CHENG | CARMEN |
CHI | CHIA | LING
CHIANG | CHUNG-CHIEN |
CHIEN | JOSEPH | MING TSEN
CHING | JASON | YUANSHEN
CHIUNTI | MICHELLE | IRENE
CHO | AE | NA
CHOE | TAE | KYONG NAM
CHOI | ALVIN | KILWON
CHOI | BLUELLE | SOUNGAH
CHRISTENSEN | CHRISTA | MARIE
CHRISTENSEN | CHRISTY | LYNN
CHRISTENSON | MARCUS | RICHARD
CHUA | JIN | CHOU
CHUNG | AARON | TIGER
CISKE | IVAN | MICHAEL
CLARK | SEAN | C.
CLARK | SEAN | MONTGOMERY
CLAYTON | CHARLES | WILLIAM
CLEVELAND | TETH |
COLLIER | PAUL |
COLLINGS | ANN | KIMBERLY P.
COMEAU | DAVID |
CONDLIFFE | KEITH | DOUGLAS
CONINGS | GERT | REMI HELENE
CONNOR | JACKSON | PHILLIPS
CONTER | HENRY | JACOB
COOKE | HELEN |
COOKE | ROBERT | ALLAN
COOKE | ROBERT | ALLAN
CORCOSTEGUI | ALEJANDRO | MANUEL
CORR | LAURA | ANNE
COUGHTRIE | SARAH | LOUISE
COUPER-EDWARDS | THOMAS |
COVINGTON-KOEPP | MONIKA | E.
CRAMPTON | JESSICA | RANA
CRAWFORD | STEPHANIE | ANNA
CRESWELL | KEVIN | ALVIN
CRETNEY | MARILYNN |
CRISP | EDWARD | JOHN
CROSBY | ALAN | MIKIO
CRUICKSHANK | JOHN | MARTIN
CRUIKSHANK | SUSAN | GRAY
CULHANE | MICHAEL | CHARLES
CUNNINGHAM | SARAH | RACHEL ELIZABETH
CURTIS | DAVID | WILLIAM ALAN
DAETWYLER | MARC | PETERE
DAILLENCOURT | ELEONORE | CHRISTINE
DAINES | JEFFREY | THOMAS
DARLING-DOIDGE | JAMES | EDWARD
DAVIDOW | MIRIAM | LEHMAN
DAVIDOW | ROBERT | LEE
DAVIDSON | DANIEL | JACK
DAVIS | EDITH | J.
DAVIS | JESSICA |
DAVIS | NANCIELLEN | CELESTE
DAY | CHARLES | ANDREW
DE BECKER | CYNTHIA | IVY PATRICIA
DE COULON BERTSCHMANN | CHRISTINE |
DE SANTANA | ALEJANDRO | PEREZ
DEAVILLE | MARY | ISABEL
DECKER | ERIKA | LYNN
DEER | BENEDEK | ISTVAN ANDRAS
DEGELDER | PETER | JOHN
DELAQUIS | CHRISTOPHER | SCOTT
DEMANGOS | ELIAS | EVANGELOS
DEMANGOS | PETER | P. E.
DERGHAM | SERGE |
DERMITZEL | DANIEL |
DEUDON | MARIE | FLORENCE NATSUKO
DEVEREUX | HELEN |
DIAMOND | ANDREW | MICHAEL
DIAMOND | ANDREW | MICHAEL
DILLON | CAROLINE | ANNE TREACY
DING | MOW-SUNG |
DINGMAN | DAVID | ROSS
DISHER-MULHOLLAND | CATHERINE |
DODD | ANDREW | EVAN
DOI | ATSUSHI | ANTHONY
DOMKEN | GAELLE |
DOUGLAS | DAWN | NOELETTE
DOWN | PETER | JEREMY
DRAYER | ANNEKE | LYNDSAY
DREW | ROCKNE | HOWARD
DRURY | MARION | CAROL DRU
DUBUC | BENJAMIN |
DUFFY | THOMAS | PATRICK
DUFRESNE | ALEXANDRA | ANN
DUFRESNE | JULIEN | PIERRE
DUKE | HELEN | MICHELE
DUNANT | JESSICA | EVELYN SILBERMAN
DUNN | JEFFREY | MARK
DUNNE | DEBORRAH | ANNE
DYMENT | HEATHER | ANN
EAKINS | ANNA | THERESA
EATON | DAVID | WILLIAM SALTER
EDDY | TERENCE |
EGGER | DANIEL | CHRISTOPH
EHRLICH | MICHEL | RENE
EITEL | FRANK | GOTTLIEB
EITEL | KRISTY | LEE
EL-BADAWI | TAREK | ASSEM
ELDON-EDINTON | SIMON |
ELNATSHA | RAMI | RADI
EMAIN | BRIGITTE |
EMANUEL | GRANT |
EMRICH | JUSTIN | SCOTT
ENOKIDA | SHUICHI |
ERULIN | ADELINE | MARIE-ANTOINETTE
ESMEIJER | SAMUEL | ROBERT
EVANS | NICHOLAS | ALEXANDER
FANDREY | STEPHAN |
FANDRY | STEPHAN |
FARRAN | SAMIR | JAMIL
FAXEN | ANNA | C.
FAZEL | CYRUS | HORMOZ
FERGUS | JAN | STOCKTON
FERGUSON | DOUGLAS | RALPH
FERGUSON | JEAN | MARIE
FERGUSON | MUNRO | JAMES
FERLAND | JOSEE |
FERRI | HELEN | ANNE
FILIAGGI | MARK | JOSEPH
FINK | HANA | ELISABETH
FINKAS | JAN |
FINKS | FRANCESCA |
FISCHER HECK | HEIDI | CORINNE
FISHER | KARA | EDMEAD
FITZPATRICK | ANDREW | STEPHEN
FLANAGAN MCCARTHY | KAREN | MARIE
FLECK | CAMREN | BARBOUR
FONDA | NICOLE | THOMAS
FONG | SHEILA | K.
FOO | JOSEPH | KAH-SENG
FOOTE | MITCHELL | CAMERON
FORAN | JEANNE | MARIE
FORT | FRANCOIS | JEAN
FORTINI | LINDA | ROOT
FORZANI | JODI | LYNN
FOX | KEERA | ANN
FOX | RICHARD | JOHN
FOXWELL | DONNA | MARIE
Fragniere-Van Hout | Isabelle | Anne
FRANCX | CHRISTINE | MARIE
FRANKS | LYNN | A.
FREE | KEVIN | WILLIAM
FREEMAN | SARAH | JANE
FREI | THOMAS |
FRETZ | DAVID |
FREW | STACIA | ANN
FRIES | HOWARD | FRANKLIN
FRITSCHE | JEREMY | JAMES
FRYE-VISSON | ELLEN | CARIE
FUJITA | DIANE | M.
FUJITA | LAURA | MARIE
FUJITA | MARK | K.
FUJITA | MICHELLE | LYNNE
FULCO | MARCELLA |
FURNESS | TIMOTHY | JOHAN
FUSCO | ANNAMARIA |
GABRIELCZYK | MICHAL | JOZEF
GAGE | ALEXIS | NGUYEN
GAGNON | MARY | ALICE
GALL | MAIE | NOUR-EL-DEEN
GALLUSSER | FERNANDO | REINHOLD
GAN | AZALEA | TAN
GARGOUR | JACQUES |
GARRY | JUTTA |
GAULKE | BRIAN | ROLAND
GAUTHIER | GILBERT | THELLEND
GELLING | RENAE | ELEANOR
GELLNER | JULIE |
GERBIER | JEROME | PIERRE
GEROFSKY | DAVID | AARON
GHODS | NASSIM |
GHOLMIA | LISA | YAZBEK SABBAGH
GIL | ROSARIO |
GILBERT | KILIAN | TIMOTHY
GILLOW | KENNETH | CHARLES
GILMORE | LINDA | ADAMS
GINESTIE | MARTIN | FRANCOIS
GIROUX | CHANTAL |
GIVEN | HELEN | MARGARET
GOBET | NICOLE |
GOENAWAN | KENQ |
GOH | MARIANNE | JINGYI
GOMEZ | ERIC | MICHAEL
GOOD | GARY | MERVIN
GOOD | GARY | MERVIN
GOOD | LINNEA | MARCIA ALEXANDRA
GOODWIN | ELIZABETH | CHRISTINE
GOROSPE | KETURAH | MARIE
GOURD | ROBIE |
GOVERDE | MONICA | JOHANNA
GRAFTON | LAURA | LYNN
GRAFTON | MARK | CONWAY
GRAHAM | ROBERT | MICHAEL
GRAHAM | RUSSELL | ALAN
GRAMLOW | HEATHER | ANN
GRANHOLM | NILS | DOUGLAS
GRANT | TANYA |
GRANTMYRE | ANN | VIOLET
GRAY | ALICE | PATRICIA
GRAY | KAREN | LYNN
GRAY | LOREE | ANN
GRAY | PAMELA | ANN
GREBER | JUNKO |
GRECHEN | SUSAN | D.
GREEN | MARTIN | GORDON
GREGORY | ELEANOR | ANNE
GRIMLEY | SHENA | MERRYN
GRIVEL | MELANIE | ALICE BAUDAT
GROENENBOOM | APRIL | YVONNE
GROHE | JEANNETTE | SYLVIA
GROWE | AMANDA | RUTH
GUARDIA | JOSE | G.
GUERIN | DANIEL | JOSEPH
GUERIN | NACERA |
GUERTIN | JOHANNE |
GUINNESS | REBECCA | WALLIS
GUNZELMANN | MICHAEL | VINCENT
GUO | GRACE |
GWINN | TOM | HUNTER
HABERLI | HEATHER | LOUISE
HABERMAN | LISA | DANIELLE
HAIDARA | MAMADOU |
HALE | SEAN | CARL
HALTER | ROXANE | KATIE
HAN | SEONG | WEON
HANON | BLAISE | ALEXANDRE
Hansen | David | Lorenzo
HARINGMAN | YITZHAK | DAVID
HARPER | KAREN | AMANDA
HARRIS | RACHEL | SARAH
HARRIS | RACHEL | SARAH
HARRISON | DEBORAH | MAE
HAYAKAWA | NOBORU |
HAYASHI | AKIYO |
HAYASHI | TERUMI |
HAYCOCK | JAMES | RICHARD
HAYES | MARGARET | ALLEN
HEATH | KATHERINE | V.
HEIDEMAN | PATRICK | R.
HEIMER | THOMAS | MACKAY
HEISLER | CLAIRE | ANN
HENDRIX | JOHN | BLAIR
HENGST | MICHAEL | ANDREW
HERMON-TAYLOR | ELEANOR | ANN
HESS | KATHRYN | PAMELA
HESS | RICHARD | PATRICK
HESSE | JULES | ROBERT
HIGASHINO | MIDORI |
HILL | KATRINA | JOY
HILL | RENEE | TYSHA
HILTON | JANICE | LINDA
HNATIW | MELISSA | GILLETTE CHANNING
HOBSON | LOUIS | ARTHUR
HOCHROTH | ADAM | MICHAEL
HODGMAN | MICAH | GABRIEL
HOFFMAN | RONI | BRIANA
HOGUE | MIDORI |
HOLBROOK | ARTHUR | WHEELER
HOLLENBERG | ELISA | MICHELLE
HOLLOX | ANTHONY | PAUL
HOLMLUND | KATHLEEN | MARGARET
HOLMSTEAD | RYAN | EUGENE
HOLT | ROBYN | B.
HOLTBY | CAITLIN | ELIZABETH
HONG | KENNETH | P.
HOUDE | GILLES |
HOULDING | MYRA | SUSAN
HOWARTH | MAXINE |
HSU | LITA | CHIA-FANG
HUANG | CHIN-YUN |
HUANG | HAO | HUAI
HUANG | KEVIN |
HUANG | KRISTOPHER |
HUANG | MINGSHUN |
HUBBARD | MICHAEL | ANTHONY
HUBBARD | STEVEN | KIMBQALL
HUI | HAILONG |
HUISMAN | PIETER | CORNELIS DIRK
HUMBERT-DROZ | ALEX | ALOIS
HUMBERT-DROZ | PASCAL | ANDRE
HUSSON | JESSICA | HAYLEY
HUTCHINSON | SARAH | JANE
HUXTER | DOUGLAS | JOHN
HWANG | SUNG | JIN
HYDER | STEPHANIE | GAYLE
INDERMUHLE | JANN | CHRISTOPHER
ISDELL-CARPENTER | KATHERINE |
ISHIDA | HIROKI |
ITO | SAE |
JACOB | SUSAN | BUCHANAN
JACOBSON | LEE | GARY
JAFFRIN | MANUEL | LAURENT
JANICIJEVIC | IVAN |
JARVIS | NANCY | MARIE
JOHNSON | ANITA | LOUISE
JOHNSON-SMITH | THOMAS | GEOFFREY POMEROY
JONES | NEIL |
JUN | JESSICA | JOSHUA
Jutel | Annemaire | Goldstein
KADISHAY | ORI |
KAEMINGH | COLE | ADAM
KAEMINGH | COLE | ADAM
KAEMINGH | KATHY | MARIE
KAEMINGH | TANNER | JAMES
KAEMINGH | TEAGAN | DALEY
KAGAMI | SATOSHI |
KAHAN | RINA |
KALOUSTIAN | MICHEL | RAFFI
KALUS | WENZEL | SCOTT
KANIA | PATRICIA | RUTH
KAO | YUAN-CHUAN |
KAPLAN | DAVID |
KARLSSON | LARS | GEORG EMANUEL
KASSIN | NANCY | MARY
KATES | ELISSA | BETH
KAUFMANN-WALTHER | VERONIKA | ELISABETH
KEELER | ROBERT | JOSEPH
KEHLSTADT | NORA | CAROLINE
KELLOGG | JAMES | EDWARD
KEMPNER | HANS | ROBERT
KENNEALLY | TIMOTHY | DOMINIC
KENNEDY | MARK | STEPHEN
KENYON | WILLIAM | THOMAS
KHALIL | FATMA | MAHMOUD
KHAN | ALI | BEGUM
KHO | LARRY |
KIM | DAVID |
KIM | GLORIA | SU-JUNG
KIM | JIYOUNG |
KIM | JOHN | MINSOO
KIM | YONG | WON
KIMBLE | JULIE | ANN
KING | ANN | MARIE
KING | BARBARA | LOIS
KINGSLEY-PALLANT | JOHN | RICHARD
KINGSMILL | VALERIE | ANNE
KIRCHHOFFER | TAREK-FABIAN |
KIRCZENOW | GREGORY | PETER
KITAO | SAGIRI |
KIYOKAWA | SHUNJI | SCOTT
KNOWLES | DOCHELLE | GIAN
KO | NAI-WEN |
KODALI | TANUJA |
KOFMAN | JEFFREY | CHARLES
KOH | NICHOLAS | WEE KIAT
KOHN | MIRIAM | YENTEL
KOLMAN | CLAIRE | SIMONE
KONDO | AKI |
KONING | MARIJE |
KOO | JOSHUA | VIN
KOSANSKY | RONA |
KOSTYK | BETHANY | ANN
KOVENSKY | HEATHER | BLAKE
KRAHENBUHL | STEPHANIE | JEAN
KREDITOR | ELLIOT | DANIEL
KREISCHER | DOREEN | MARY
KREMER-COLLINS | BETH |
KRETZ | DANIEL | JOHN
KU | ANDREW |
KUHN | SUZANNE | DORIS
KWEE | ANN | KERWEN
KWEK | KIMBERLY | MEI-RU
KWOK | ROSALINE | HIU-MUN
LAKE | TOVE | E.
LAM | JOHN | CHI-FUNG
LAM | PATRICK | CHI-HONG
LAMBA | JATINDER | PAL SINGH
LAMBE | SARAH | ANN
LANDY | TIMOTHY | JOHN
LANE | SARAH | VANIA
LANGFORD | HOLLY | PATRICIA
LANIGAN | PHILIP | LEONARD
LAROCQUE | FRANCINE | HELENE
LASKER | DAVID | RAYMOND
LATTIMER | LINDA | SUSAN
Lauderdale IV | John | Cobb
LAVERICK | PATRICIA | MARTHA
LAWRENCE | LETTY |
LAWSON | CARLTON | MICHAEL
LE ROUX | SOPHIE | ISOBEL
LEANEY | DANIEL | WILLIAM-JOSEPH
LEA-WARNER | SUSAN | MARY
LEBRETON | ALIX | SARA PAULINE
LECOURT | JEAN-PHILIPPE | ALAIN FRANCOIS
LEDOUX | JACQUELINE |
LEE | CHENG | CHANG
LEE | EARL |
LEE | HSING-MEI | ELSIE
LEE | JILLIAN | BERESFORD
LEE | JONATHON | YON SEUNG
LEE | JUNE |
LEE | MYUNG | J.
LEE | THEODORE | FREDERICK
LEE | YOUNG | SOO
LEFEBVRE | LIONEL |
LeGrelle | Thomas | Santiago
LEIGH | ANGIE | LYNN
LEMLI | PATRICK | MELCHIOR
LESLAU | JAKE | ELLIOT
LI | IRENE |
LI | JUN |
LI | MAVIS | QIWEN
LIM | BRANDON | HUANG SHENG
LIM | JOSHUA | LI SHENG
LIN | ANTHONY |
LIN | HUI | QUAN
LIN | JANIS | TSAI-CHUN
LINDENMEYER | ALEXANDER | STEPHEN
LIPCHAK | SUSAN | LYNN
LIU | GORDON | GEN-ZHI
LLAGUNO | BERNARDO |
LOGAN | RICHARD | DOUGLAS
LOPEZ | STACY | ALISON
LORETTE | JOYCE | MARIE
LOVERING | GAIL |
LOVERING | ROBERT |
LOVEWELL | JAN | MARGARET
LU | WEIMING |
LUCKENSMEYER | DAVID | HAROLD
LUENGNARUEMITCHAI | PIPAT |
LUKOWIAK | KENNETH | DANIEL
LUTFALLA | DORA | YAZBEK SABBAGH
MA | KURTIS | SIN-KAI
MA | STEVEN | YAN QING
MACDONALD | RHONDA | ANNE
MACFARLANE | MARJORIE | REINHARDT
MACGREGOR | ESTHER | PEARL
MACKETT | ROBERT | GORDON
MACRANDER | ANDREAS | FRANCISCUS PIETER ANTHONIUS
MACROPULOS | ALKIS | JORGE
MADDALONI | DANIELE | DOMENICO
MADDALONI | DANIELE | DOMENICO
MAGID | BENJAMIN | HARRIS
MAK | KIT-MING |
MAKI | JEANNE | ELAINE
MALHOTRA | SHIVEN |
MALLICOAT | MARGOT | ANNE
MALONEY | ANA | CARINA
MANNING | DAVID | FRANKLIN
MANSON | JOHNNA | MARIE
MARCEAUX | OLIVIER | BAUGNIES DE PAUL DE SAINT
MARCHAND | FRANCOIS |
MARCO | MARIA | DEL PILAR
MARMER | DANIEL | KALMAN
MARNI | MADHAVI |
MAROIS | JEAN-FRANCOIS | PETER
MARSHALL | LINDA | ANN
MARTENS | MARTHA | CLARK EGER
MARTIN | HANA | MARIE
MARTY | SAMUEL | DAVID
MARVIN | DAVID | JAMES
MASI | VICTOR | SERAFINO
MASON | PENELOPE | ANNE
MASTORAKIS | HOLLIS | SUSAN
MATISKO | BARNARD | TAYLOR
MAUGER | ALYSHA | MICHELLE
MAURY | ERIC | JEAN
MAXWELL | LINDA | PRIMEAU
MAZREKU | MATTEO | GIUSEPPE JACK
MCCLELLAND | RICHARD | TERENCE
MCCORMICK | DOREEN | FOTI
McEvily-Bierett | Todd | Michael
MCFADDEN | EDWARD | ANTHONY
MCGILVRAY | MARYSIA | MARIANNA NAKIELNA
MCGOUGH | SARAH | ELLEN
MCGUIGAN | MARY | L.
MCGUIGAN | MITCHELL | W.
MCHUTCHISON | JOSHUA |
MCKENZIE | CAROL | A.
MCKENZIE | WILLIAM | G.
MCLAREN | ROBERTA | DEANNE
MCMANUS | SHANNON | MARIE
MCNEICE | MOLLY | O.
MCNEILL | SANDRA | LYNN
MCPHERSON | JOHN | R.
MCTAVISH | MARIANNE | EMILY
MEALY | KENNETH | ROBERT
MEEHAN | JANE | ELLEN
MEHROTRA | PRAVEEN |
MEIER | ITHAI | BENJAMIN
MENKES | JACK | ANDREW
MENKES | JACK | ANDREW
MERZ | PETER | WALTER
Merz | Steven | Gustav
MESSMER | PETER |
MESSMER-KRATZSCH | ANTKE | CHRISTINE
MICHAUD | BRIGITTE |
MIN | SUSAN |
MINTO | ISAAC | YOUSAF-AHMAD
MITCHELL | JANICE | MARY
MITCHELL | JANICE | MARY
MITCHELL | KATHRYN | ANNE
MITCHELL | LAURA | JANE
MITCHELL | PETER | JAMES
MIURA | TAKAAKI |
MODIS | THEA | VICTORIA
MOERMAN | CLEMENTINE | GWENAILLE
MOLASKY | MICHAEL | SCOTT
MOLESKI | TIMOTHY | L.
MOLS | JESSICA | MARY
Mongillo | Michael | Anthony
MORE | SARAH | ;EE
MORENO | EVA | GARCIA
MORGAN | CATHERINE | VANZANDT
MORGAN | CLARA | FRANCES
MORRISON | RICHARD | J.
MOUGANIE | SUZANNE | SHAHIDE
MULCAHY | NORA |
MULVEIN | HELEN | JANE
MURCH | STUART | DAVID
MURONE | VICTOR | BASTIEN
MURPHY | AMY | KATHLEEN
MURRAY | DAVID | STUART
NAERT | KAREN | ANNE
NAGASAWA | YURIA |
NAKAGAWA | AYA | MADELEINE
NAKAGAWA | TAKANORI | CHRISTOPHER
NAKAGAWARA | JUN |
NAKAJIMA | TETSUYA |
NAM | KYEONGHEE |
NASH | LORI |
NATHANI | SHEENA | DEEPAK
NATHWANI | NEHA |
NELSON | RIAN | WEI-JIAN
NEUHAUS | CORSIN | MARTIN
NEUMANN | DOV |
NEUMANN | JACOB |
NEUMANN | JOEL |
NEUMANN | MOSHE |
NEUMANN | RACHEL | HANNAH
NEUMANN | YEHUDA | ZEV
NEWTON | NICHOLAS | JOHN
NG | CARY | GONZALES
NG | KATHLEEN | WAI LING
NICHOLS | MARY-SUE | OLGA
NICHOLSON | FREDERICK | LORENCE
NISHIWAKI | TOKIO | MARTIN
NORTON | ABIGAIL | MARY SPENCER
NOTARO | FRANK |
NUMATA | AKIRA |
NUMATA | KUNIKO |
O'CONNOR | BRADLEY | JOHN
O'CONNOR | JACK | O.
OGDEN | JASON | BARTLEY
OHSBERG | ROBERT | CHARLES
OJJEH | SORAYA | JOSEPHINE
OLSON | CHERYL | LEE
OREN | SHEERY |
OSTERTAG | NICOLA | C.
OSTRO | DAVID | JONATHON
OUYOUB | HAMID |
OZUPEK | CANAN |
OZUPEK | GOKMEN |
PAI | STEVEN | YOUNG-YAW
PALK | WARREN |
PALMER | ADELE | CRISTINA SOPHIA
PAN | FENG |
PANG | STEVEN |
PANG | SU | JEN CHEN
PAPERNICK | SYLVIA | RUTH
PAPIN | ALEXANDRE | LOUIS MATTHIEU
PAPPAS | GRETA |
PARANT | SYLVIE |
PARMANTIER | LOUISE | ANNE
PATMON | JEFFREY | ALLEN
PAUL | JANE | YUKIKO
PEACOCK | DIANE | KAY
PEARCE | CATHERINE | ANNE
PEARSON | DONALD | JAMES
PEARSON | HONOUR | HEPBURN
PEARSON | SUZANNA | NANCY
PEDERSEN | MARK | EDWARD
PEIRIS | DARREL | SAHAN
PENG | JUN-XIANG |
PERKINS | MARK | ALLAN
PERROUD | LOUISE | MARGUERITE
PERRUCCIO | MATTHEW | DANTE
PFEIFER | ISRAEL |
PHILIPS | EMILY | BENESTAD TEETER
PHILLIPS | HEATHER | MURIEL
PIETSCH | KARINA | IRENE
PIGUET | GABRIEL |
PINTO | CLAUDIA |
PIZARRO | CLAUDIA | ELISA
Pliska | Benjamin | Tobias
PLOTSKE | MICHAEL | LONJA
POLLACK-RUFFINER | GWEN | PHYLLIS
PORUS | LYNN | DIANE
POSTIF | SOPHIE | J.
POTT | HENDRIKUS |
POWELL | JAMES | ALAN
POWELL | LUKE | JENSEN
POWELL | NELS | JENSEN
PREVOST | KYLE | JOHN
PRICE | KEITH | DOUGLAS
PRICKETT | BARBARA | M.
PRYCE | NICOLA | KATHLEEN
PUE | CHRISTOPHER | E.
PYUN | SA-KEUN |
QASEM | ROKEYEA | FUAD
QUIBAN | CHARLEMAGNE | R.
QUIRK | KAITLIN | ANN
RADATZKE | ROSS | CLAYTON
RANK | DAVID | JAMES MICHAEL
RANK | JULIA | HOPE FRANCES
RAUHUT | CHRISTIAN |
RAY | JAMES | ROBERT
RAYNER | GEORGINA | ISABEL
REAVES | BRIAN | MCCAIN
REDD | ANNA | M.
REDLINGER-LIBOLT | CRISTINA |
REEVES | CATHERINE | LEE
REGOUT | BRIGITTE | LOUISE
REHNER | ALAN |
REMPEL | CATHERINE | EDITH
RESLOW | NATASJA |
RESURRECCION | ZENAIDA | O.
REYES | REGINA | ONGSIAKO
REYNAUD | KRISTINE | ELIZABETH
REYNOLDS | KAREN | HAFSTEN
RIESE | NICHOLE | MARGARET MARIE
ROBINSON | ALEXANDER | MCLEOD
ROBINSON | LAUREN | RACHELLE
ROBINSON | NADINE |
ROCKEL | DANIELLE | MARIE
ROGERS | ELEANOR | COLTON
ROGERS | JANE |
ROGERS | SUSAN | LESLIE
ROJAS | ROMEO | ANDRES
RONNING | HARMON | NELSON
ROSE | DANIEL | LINCOLN CONELY
ROSENBLATT | ERIC |
ROSENFELD | TAMAR |
ROSIN | HAZEL | MAUREEN
ROSIN | HAZEL | MAUREEN
ROULEAU | CLAUDE | GUY
ROWNTREE | NEIL | ANDREW
ROZEK | JANE | CATHERINE
RUCCIA | HOLLY | RACHELLE
RUDISILL | JENNIFER | ROBYN
RUIZ | EMILY | ANNA CATAPANO
RUSHTON | JEREMY | STOUT
RYAN | DAVID | ANDREW
SABBAGH | LEDA | YAZBEK
SABRI | KARMEN |
SAFFELL | BRANDON | JIN
SAJJAMANOCHAI | CHANON |
SALCHERT | WADE | RODNEY
SALDARRIAGA | ROXANNA | LILIANA
SALL | CONNIE | RAE
SALMAN | TASHA | MARIA JENNIFER
SAMAWI | SABAH |
SAMUELS | THEIPHILUS | L.
SANDBERG | ANNIE |
SANDERSON | SOPHIE | BRIGITTE
SANDLER | MICHAEL | STEPHEN
SASANOW | GETHEN | JAN
SATO | JUNYA |
SAYMEH | DIMA |
SBROCCHI | ANNE | MARIE
SCHAEFER | JOERG |
SCHAEPPI | ANDREA | BARBARA
SCHENCK | KATHERINE | PRUITT
SCHENK | STEPHANIE | NOELLE
SCHIEBEL | RUDI | ANDREW
SCHINCARIOL | DIANE | ELIZABETH
SCHMIDT | AMY | ELIZABETH
SCHNIDER | DANIEL |
SCHNORF | CELINE |
Schnorf | Maya | Larisa
SCHNUR | DAVID |
SCHOFIELD | SALLY | ANN
SCHUSTER | SARAH | LYNN
SCHUTTEVAER-JONES | CATHERINE | JEAN DIERKENS
SCHWIEGER | FLORIAN |
SCOTT | MICHELLE |
SCULLEN | KAREN | V.
SELL | MADELAINE | NELLY
SHAFIQUE | FAREHA |
SHAFIQUE | FAREHA |
SHAFIQULLAH | WALEED |
SHAH | KALYANI | MOHAN
SHAH | YOMESH | DINESH
SHANK | EMILY | CLAIRE
SHARAPOV | GERMAN | GEORGIEVICH
SHARIR | SHARON |
SHARPLES | ANDREW | WILLIAM
SHERMAN | LAURENCE | CORNISH
SHERRARD | JULIAN |
SHI | DANZHU |
SHIFMAN | AMANDA | COLE
SHIFMAN | KATIE | COLE
SHIM | YO | HAN
SHIMIZU | SHUNTARO | JAMES
SHNITZER | TIMNA |
SHOCTOR | DEBORAH | ANNE
SHOUSE | RONDI | SUE
SHUKEN | CYNTHIA | RUTH
SHYU | RUEY | JEN
SIAH | KENDRA | JIA QI
SIBRAVA | IVANA |
SIEBENMANN | ELIZABETH | CLARE
SIEBER | KATRIN | LEONORA
SILBERMAN | MICHAEL | BOLEK
SILVERBERG | ERIC | LASER
SIMPSON | BARBARA | JEAN
SIMPSON | GORDON | JAMES MONCRIEFF
SIMS | JOHN | R.
SINCLAIR | HARLEY | DAVID
SIU | LYDIA | YOLANDA
SKEICH | MEGAN | EMILY
SKEICH | SAMANTHA | SHEA
SLAUGHTER | VIRGINIA | PAYNE
SMITH | MORGAN | ROBINSON
SMITH | ROBERTA | ANNE
SMITH | THERESA | LYNN
SNOW | RUSSELL | WAYNE
SNYDER | CRYSTAL | LYNN
SNYDER | DELORES | ANN
SNYDER | RICHARD |
SOARES | AMY | JEAN
SOLOMON | GINA |
SOMERS | OLIVER |
SOMERVILLE | TU'IFUA | ANN
SOMMERFELD | ELMA | RUTH
SPENCER | SARAH | JANE
SPERI | LODOVICA | GAIA
SPOONER | JULIE | ELIZABETH
SPRATLEY | LYNDA | ANN
STARK | SARAH | BERKELEY
STAUB | JEREMY | WILLIAM LAURENT
STAVRIOTIS | MICHIKO |
STCHEDROFF | MARC | JUSTIN
STEGER | MICHAEL | PETER MARIA
STEPHENS | DEBORAH | MEIKLEJOHN
STEVENS | PATRICIA | JOANN
STEVENSON | MARY | ELLEN
STIEFEL | CHRISTIAN | JOHANNES
STOCKMAN II | WILLIAM | TORRENCE
ST-ONGE | ANNIE | MARIE
ST-ONGE | MARCEL |
STOWE | MEGAN | JOY
STRECANSKY | ROBERT |
STROMGREN | JOHN | ERIC
STRONG | RICHARD | GEORGE
SUH | BYUNG | KYO
SULLIVAN | DANIEL | EUGENE
SUZUKI | MAKOTO |
SUZUKI | YUMARO |
SWANSON | MICHELE | LOUISE
SYKES | MAXWELL | MARTIN
SZABO | MARIETTE | LUCILLE
TADGELL | ROBERTA | DEE
TAKEI | GEN | LEON
TAN | FRANCINE | CHIU-LAN
TAN | NATHANAEL | CHIH ENG
TAN | PENG | HOCK PHILIP
TAN | TECK | JUN LEON
TAWFIK | SALAH | SAMEH
TAYLOR | ANNE | MARIE
TESCHE | JANE | MARIE
TEZHIK | GREGORY | KONSTANTIN
THARALSON | MOLLY | LYNNE
THEE | DAVID | SHLOMO
THENAYAN | YAROB | ABDULLAH
THIEL | GUNTER | LUDWIG
THIM | PIERRE | JACQUES VAN SCHERPENZEEL
THIRLWALL | JENNIFER | MAE
THOMAS | KAI |
THOMAS | KAI |
THOMPSON | ISABEL | FOLSOM
TILG | LAURA |
TIPTON | BARBARA | ANNE
TISCHLER | RICHARD | THOMAS
TJAHJANA | CHRISTINA | BUDY
TO-HUI | BELLA | SUET-LING
TOMINAGA | YUKI | EDWARD
TOMKINS | DOMINIC | CHARLES
TOOHEY-WIESE | ELIZABETH | LORRAINE
TORABI | SHAHIN |
TORNKVIST | ELIZABETH | LOUISE
TOUQAN | LENA |
TOZER | NADINE | JANET
TRACHSEL | ROSMARIE | HANNA
TRACHTENBERG | LARRY | STEVEN
TRAINOR | ROBERT | JAMES
TREACY | SEAN | PATRICK
TREACY | THOMAS | EDWARD
TRIMBLE | DALE | ELLIS
TRONEL | CAROLINE | MARIE
TROTTIER | DORIS | JO
TSAI | CHUAN | CHUNG
TSENG | NICHOLAS | HU
TSOI | MAN |
TUCKER | JOHANNA | ROSE
TUCKER | JOHANNA | ROSE
TUNG | TAIWAI | DAVID
TUNSTALL | CAROLE |
TYLER | ALICE | H.
TYLER | FRANCIS | S.
UEFFENGER | FRIEDRICH |
UEFFINGER | MONIKA | E.
UGARTE | MIKELE | MIREN
UHDE | KATHRYN | MAST
UMBLE | LUKE |
UNSWORTH | EDWIN | PHILIP
UNTERHOR | ANNEMARIA |
UOSHIMA | KAZUKI | ALEXANDER
VALENTINE | MARK | LAWRENCE
VALLARINO | ROBERTO | RAMON
VALOIS | JOANNE |
VAN ALPHEN | JOHN | CHRISTOPHER
VAN DE LOO | MARIELLE | WILHELMINA MARIA
VAN DER LAAN | FRITS | HENRY
VAN DER LAAN | OTTO | DONALD
VAN DER VELDE | NAOMI | LEE
VAN DER WAL | ASTRID | KARIN
VAN DONGEN | MARIA |
VAN LIL | EDRIS | ERMA
VAN RUYVEN | RUTGER | LODEWIJK JOHAN
VAN VEEN | ROELOF | GIJSBERT
VASSALINI | MONICA |
VASWANI | PREETI |
VAUDREMER | ANNE | SHIPPEN
VENANZI | THOMAS | JOHN
VENZAL | BRIGITTE | FRANCOISE MICHAUD
VERDEAUX | JEAN-JACQUES |
VERHUE | BRUNO | JOHAN HENDRIK
VERWEY | ROBERT |
VEYRE | JULIEN | FERNAND
VILLAGELIU | ALBERTO | ALFONSO
VILLARREAL | CHRISTOPHER | C.
VIS | GLADYS | MAE
VITZTHUM | ROZANNE | CHARBONNEAU
VOGEL | THERESA | MARIA
VON LIERES UND WILKAU | VALBORG |
VON MANDACH | CONRAD | JEAN
VON SCHUCKMANN | MARIA | ALEXANDRA
VRIES | CHARLOTTE | LOUISE
WADE | CLAIRE | HARPER
WAGNER | HENRY | REMY
WAGNER | TRUDY | FRIEDA
WAKKIE | JULIE | CORINNE ELISABETH
WALKER | BRANDON | NICKOLUS
WALLET | SUSAN | ELIZABETH
WALTMAN | CAROLINA | MARIA
WANG | ANDREW | XIAO
WANG | QUN |
WARMINGTON | HARRY | PARK
WARNER | HESTER | ANN
WARNETT | SANDRA |
WASHBURN | THOMAS | LA ROR
WASTLING | JONATHON | PAUL
WATERREUS | ANNE | MARIE
WATTERS | GREGOR | ANTON RANDALL HARTL
WEBER | MARA | J.
WECHSLER | JOSEPH | B.
WEE | STEVEN | RYAN CHAN
WEEDON | CYNTHIA | ANN
WEIL | JONATHAN | JOEL
WEINROTH | REGINA | WECHSLER
WEISS | NICKI | LYNN
WEISS | NICKI | LYNN
WEST-CHOW | HALEY |
WETZEL | CHRISTOPHER | ANTHONY
WEXLER | ROBERTA | LEE
WHEATLEY | KIM | THOMAS BRAUN
WHITE | JOAN | MARIE
WICKE | JOSEF | YUUICHI
WIJNHOLDS | MARIETTE | BINA DE BEAUFORT
WILDE | DARREN | DALE
WILKE | JOEL | DAVID
WILLI | MATTHIAS | JOHANNES
WILLIAMS | ANDREA | LOUISE
WILLIAMS | ANTON | JOHN
WILLIAMS | CHRISTINE | A.
WILLIAMS | CLAIRE | ALISON
WILLMOT | SUSAN | ELAINE
WINDSOR-CLIVE | UMAWORN | IDRIS
WISHART | CHARLES | GEORGE
WITHERS | LYNN |
WITTENMARK | KARL | ERIK
WONG | CHIN | SHIONG
WONG | HEI-MAN | FRANCES
WONG | MICHELLE | TIFFANY
WONG | SOPHIA | IRENE
WOOD | MARY | ANNE
WOODWARD | GILLIAN | VANESSA
WOOTEN | DAVID | MICHAEL
WRIGHT | RUTH | MARIE
WU | ALICE | HSIN JOU
WU | EMILY | CHUN-LING
WU | JUSTIN | TANG
WUENSCHE | ALEXANDER | JULIAN
WUERSCHING | BERND | WERNER
WYNN | MATTHEW | PAUL
XIONG | YUJIE |
YANG | TERRY | TAI YU
YU | CHRISTINE |
YU | HSIAO | PIN
YUASA | HISAO |
YUN | RUMI | CHLOE
YUNG | NGAN | HAU
ZAHID | EMAN | ALI
ZAPATA | MARIA | DEL CARMEN
ZARAWANI | SAIF | ABDUL RAHIM
ZAROVSKY | IVAN | VALERY
ZBIKOWSKI | KEVIN | ALEXANDER
ZEEV | ISRAEL |
ZHENG | WEIKANG |
ZIADEH | NAYLA | BASSEM
ZIMMERMAN | SHULAMITH | RAISELE
ZONNEVELD | GERRIT | JAN
ZOU | JISHENG |
ZUIDHOF | GRANT | ALAN
ZWIERS | MARJAN |

Dated: July 24, 2018.
Diane Costello,
Manager Classification Team 82413, Examinations Operations—Philadelphia Compliance Services.

[FR Doc. 2018-16475 Filed 7-31-18; 8:45 am]

BILLING CODE 4830-01-P